DEPARTMENT OF HEALTH AND HUMAN SERVICES

National Institutes of Health

National Institute of Mental Health Amended Notice of Meeting

Notice is hereby given of a change in the meeting of the National Institute of Mental Health Special Emphasis Panel, October 30, 2012, 08:00 a.m. to October 30, 2012, 06:00 p.m., Melrose Hotel, 2430 Pennsylvania Ave. NW., Washington, DC 20037 which was published in the Federal Register on October 05, 2012, 77 FR 61011.

This meeting has been rescheduled due to severe weather in the Washington, DC area on October 30, 2012. The meeting will now be held as a teleconference and will take place on November 15, 2012, from 08:00 a.m. to 05:00 p.m. The meeting is closed to the public.

Dated: November 1, 2012.
Carolyn A. Baum,
Program Analyst, Office of Federal Advisory Committee Policy.

[FR Doc. 2012-27109 Filed 11-6-12; 8:45 am]

BILLING CODE 4140-01-P